DEPARTMENT OF TRANSPORTATION

Research and Special Programs Administration

49 CFR Parts 192 and 195

[Docket No. RSPA-98-3783; Amts. 192-90; 195-72]

RIN 2137-AB38

Pipeline Safety: Qualification of Pipeline Personnel; Correction

AGENCY: Research and Special Programs Administration (RSPA), DOT.

ACTION: Correcting amendments.

SUMMARY: This document contains corrections to the final regulations on qualification of pipeline personnel, which were published in the Federal Register on August 27, 1999 (64 FR 46853). These corrections are minor and do not affect the substance or content of the rule.

DATES: Effective on August 20, 2001.

FOR FURTHER INFORMATION CONTACT: Richard D. Huriaux, (202) 366-366-4565, or by e-mail at richard.huriaux@rspa.dot.gov, regarding the subject matter of this final rule; or the Dockets Unit, (202) 366-4453, for copies of this final rule or other material in the docket. All materials in this docket may be accessed electronically at http://dms.dot.gov. General information about the RSPA Office of Pipeline Safety can be obtained by accessing OPS's Internet home page at http://ops.dot.gov.

SUPPLEMENTARY INFORMATION

Background

The final regulations that are the subject of these corrections established operator personnel qualification requirements for gas and hazardous liquid pipeline operators.

Need for correction

As published, the final regulations omitted titles for the new subparts to the pipeline safety regulations. Therefore, this document amends the regulations to add the title, “Qualification of Pipeline Personnel”, to subpart N of 49 CFR part 192 and to subpart G of 49 CFR part 195.

In addition, the final regulations contained incorrect numbering for the evaluation methods in § 192.803(b) and § 195.503(b). This document corrects the numbering to clarify that observation of performance on the job, job training, or simulations are all acceptable methods of observation, which is one of the means of individual evaluation allowed by the rule.

List of Subjects

49 CFR Part 192

Pipeline safety, Reporting and recordkeeping requirements.

49 CFR Part 195

Petroleum, Pipeline safety, Reporting and recordkeeping requirements.

Accordingly, 49 CFR parts 192 and 195 are corrected by making the following correcting amendments:

PART 192—[CORRECTED]

1. The authority citation for Part 192 continues to read as follows:

Authority: 49 U.S.C. 5103, 60102, 60104, 60108, 60109, 60110, 60113, and 60118; and 49 CFR 1.53.

2. Add a heading to Subpart N to read as follows:

Subpart N—Qualification of Pipeline Personnel

3. Amend § 192.803 by revising the definition of Evaluation to read as follows:

§ 192.803 Definitions.

* * * * *

Evaluation means a process, established and documented by the operator, to determine an individual's ability to perform a covered task by any of the following:

(a) Written examination;

(b) Oral examination;

(c) Work performance history review;

(d) Observation during:

(1) Performance on the job,

(2) On the job training, or

(3) Simulations;

(e) Other forms of assessment.

* * * * *

4. Revise paragraph (c) of § 192.809 to read as follows:

§ 192.809 General.

* * * * *

(c) Work performance history review may be used as a sole evaluation method for individuals who were performing a covered task prior to October 26, 1999.

* * * * *

PART 195—[Corrected]

1. The authority citation for Part 195 continues to read as follows:

Authority: 49 U.S.C. 5103, 60102, 60104, 60108, 60109, and 60118; and 49 CFR 1.53.

2. Add a heading to Subpart G to read as follows:

Subpart G-Qualification of Pipeline Personnel

3. Amend § 195.503 by revising the definition of Evaluation to read as follows:

§ 195.503 Definitions.

* * * * *

Evaluation means a process, established and documented by the operator, to determine an individual's ability to perform a covered task by any of the following:

(a) Written examination;

(b) Oral examination;

(c) Work performance history review;

(d) Observation during:

(1) performance on the job,

(2) on the job training, or

(3) simulations;

(e) Other forms of assessment.

* * * * *

4. Revise paragraph (c) of § 195.509 to read as follows:

§ 195.509 General.

* * * * *

(c) Work performance history review may be used as a sole evaluation method for individuals who were performing a covered task prior to October 26, 1999.

* * * * *

Issued in Washington, DC on August 8, 2001.
Stacey L. Gerard,
Acting Deputy Administrator.

[FR Doc. 01-20635 Filed 8-17-01; 8:45 am]

BILLING CODE 4910-60-U